SECURITIES AND EXCHANGE COMMISSION

[Release No. 34-42330; File No. SR-NYSE-94-34]

Self-Regulatory Organizations; Notice of Extension of the Comment Period for the Proposed Rule Change by the New York Stock Exchange, Inc. To Revise Exchange Rule 92, “Limitations on Members' Trading Because of Customers' Orders”

January 11, 2000.

On September 27, 1994, the New York Stock Exchange, Inc. (“Exchange” or “NYSE”) filed with the Securities and Exchange Commission (“Commission”) a proposed rule change pursuant to Section 19(b)(1) of the Securities Exchange Act of 1934 (“Act”) ¹ and Rule 19b-4 thereunder ² to revise Exchange Rule 92, “Limitations on Members' Trading Because of Customers' Orders.” A complete description of the proposed rule change and Amendment Nos. 1, 2, 3, 4, and 5 to the proposal may be found in the notices of filing previously published in the Federal Register.³

¹ 15 U.S.C. 78s(b)(1).

² 17 CFR 240.19b-4.

³ See Securities Exchange Act Release Nos. 35139 (Dec. 22, 1994), 60 FR 156 (Jan. 3, 1995) (notice of filing of proposed rule change, including Amendment No. 1); 36015 (July 21, 1995), 60 FR 38875 (July 28, 1995) (notice of filing of Amendment No. 2); 37428 (July 11, 1996), 61 FR 37523 (July 18, 1996) (notice of filing of Amendment No. 3); 39634 (Feb. 9, 1998), 63 FR 8244 (Feb. 18, 1998) (notice of filing of Amendment No. 4); and 42224 (Dec. 13, 1999), 64 FR 71160 (Dec. 20, 1999) (notice of Amendment No. 5).

Given the public's interest in the proposed rule change and the Commission's desire to give the public sufficient time to consider Amendment No. 5 to the proposal, the Commission has decided to extend the comment period pursuant to Section 19(b)(2) of the Act.⁴ Accordingly, the comment period shall be extended from January 10, 2000, to January 24, 2000.

⁴ 15 U.S.C. 78s(b)(2).

Interested persons are invited to submit written data, views, and arguments concerning the foregoing, including whether the proposed rule change, as revised by Amendment No. 5, is consistent with the Act. Persons making written submissions should file six copies thereof with the Secretary, Securities and Exchange Commission, 450 Fifth Street, N.W., Washington, D.C. 20549-0609. Copies of the submissions, all subsequent amendments, all written statements with respect to the proposed rule change that are filed with the Commission, and all written communications relating to the proposed rule change between the Commission and any persons, other than those that may be withheld from the public in accordance with the provisions of 5 U.S.C. 552, will be available for inspection and copying in the Commission's Public Reference Room, 450 Fifth Street, N.W., Washington, D.C. 20549-0609. Copies of such filing will also be available for inspection and copying at the principal office of the Exchange. All submissions should refer to File No. SR-NYSE-94-34 and should be submitted by January 24, 2000.

For the Commission, by the Division of Market Regulation, pursuant to delegated authority. ⁵

⁵ 17 CFR 200.30-3(a)(12).

Margaret H. McFarland,
Deputy Secretary.

[FR Doc. 00-1477 Filed 1-20-00; 8:45 am]

BILLING CODE 8010-01-M